DEPARTMENT OF COMMERCE

International Trade Administration

[A-570-803]

Notice of Amended Final Results of Antidumping Duty Administrative Reviews: Heavy Forged Hand Tools From the People's Republic of China (Hammers/Sledges)

AGENCY: Import Administration, International Trade Administration, Department of Commerce.

ACTION: Notice of amended final results of antidumping duty administrative reviews.

EFFECTIVE DATE: March 27, 2003.

FOR FURTHER INFORMATION CONTACT: Thomas Martin or Mark Manning at (202) 482-3936 or (202) 482-5253, respectively, AD/CVD Enforcement Office IV, Group II, Import Administration, Room 1870, International Trade Administration, U.S. Department of Commerce, 14th Street and Constitution Avenue, NW., Washington, DC 20230.

SUMMARY: On February 13, 2003, the Department of Commerce (the Department) published the amended final results of administrative reviews of the antidumping duty orders on heavy forged hand tools from the People's Republic of China. The period of review is February 1, 2000, through January 31, 2001 (POR). The respondent Shandong Machinery Import & Export Corporation (SMC) submitted comments alleging a ministerial error. After reviewing the allegation, we have determined that the amended final did include a ministerial error, and have amended our calculations accordingly. The final weighted-average margin for SMC is de minimis.

SUPPLEMENTARY INFORMATION:

Background

On September 12, 2002, the Department published the final results of review for the tenth review of the orders on heavy forged hand tools (HFHTs) from the People's Republic of China (PRC). See Heavy Forged Hand Tools From the People's Republic of China: Final Results and Partial Rescission of Antidumping Duty Administrative Review and Determination Not To Revoke in Part, 67 FR 57789 (September 12, 2002) (Final Results). On September 16, 2002, the petitioner Ames True Temper, and the respondents, SMC, Tianjin Machinery Import & Export Corporation (TMC), Liaoning Machinery Import & Export Corporation (LMC), and Shandong Huarong General Group Corporation (Huarong), timely filed allegations that the Department made several ministerial errors in its final results. On September 23, 2002, the petitioner and respondents filed rebuttal comments. On September 30, 2002, the respondents (i.e., TMC, LMC, Huarong, and SMC) filed a summons and complaint with the U.S. Court of International Trade, which covered “heavy forged hand tools.” On October 8, 2002, the respondents amended their complaint to underscore that they had filed ministerial error allegations pertaining to all four classes or kinds of merchandise. The respondents filed a second amended complaint on November 8, 2002, whereby SMC and LMC were removed as party-plaintiffs. The second amended complaint also removed TMC's claims with respect to bars/wedges. On February 13, 2003, we published the Notice of Amended Final Antidumping Duty Administrative Reviews: Heavy Forged Hand Tools From the People's Republic of China, 68 FR 7347 (February 13, 2003) (Amended Final), addressing the clerical error allegations pertaining to TMC's and LMC's sales of bars and wedges, and SMC's sales of hammers and sledges. On February 27, 2003, SMC filed a clerical error allegation pertaining to the Amended Final for its sales of hammers and sledges.

Scope of Review

Imports covered by these reviews are shipments of HFHTs from the PRC comprising the following classes or kinds of merchandise: (1) Hammers and sledges with heads over 1.5 kg (3.33 pounds) (hammers/sledges); (2) bars over 18 inches in length, track tools and wedges (bars/wedges); (3) picks/mattocks; and (4) axes/adzes.

HFHTs include heads for drilling, hammers, sledges, axes, mauls, picks, and mattocks, which may or may not be painted, which may or may not be finished, or which may or may not be imported with handles; assorted bar products and track tools including wrecking bars, digging bars and tampers; and steel wood splitting wedges. HFHTs are manufactured through a hot forge operation in which steel is sheared to required length, heated to forging temperature, and formed to final shape on forging equipment using dies specific to the desired product shape and size. Depending on the product, finishing operations may include shot-blasting, grinding, polishing and painting, and the insertion of handles for handled products. HFHTs are currently classifiable under the following Harmonized Tariff Schedule of the United States (HTSUS) subheadings: 8205.20.60, 8205.59.30, 8201.30.00, and 8201.40.60. Specifically excluded are hammers and sledges with heads 1.5 kg (3.33 pounds) in weight and under, hoes and rakes, and bars 18 inches in length and under.

Although the HTSUS subheadings are provided for convenience and customs purposes, our written description of the scope of the orders is dispositive.

Allegation of Ministerial Errors

In its February 27, 2003, submission, SMC alleged that the Department's calculation of its dumping margin under the order on hammers/sledges contained a ministerial error. Specifically, SMC alleged that the Department used a total weight in pounds instead of kilograms when it amended SMC's marine insurance and ocean freight. See Memorandum from Bernard T. Carreau, Deputy Assistant Secretary, to Faryar Shirzad, Assistant Secretary, “Tenth Antidumping Duty Review of Heavy Forged Hand Tools from the People's Republic of China—Amended Final Determination,” dated February 6, 2003, at Comments 10 and 11.

A ministerial error is defined under 19 CFR 351.224(f) as “an error in addition, subtraction, or other arithmetic function, clerical error resulting from inaccurate copying, duplication, or the like, and any other similar type of unintentional error which the Secretary considers ministerial.” According to 19 CFR 351.224(e), “the Secretary will analyze any comments received and, if appropriate . . . correct any significant ministerial error by amending the final determination or the final results of review * * *”

After reviewing SMC's allegation, we have determined, in accordance with 19 CFR 351.224(e), that the Amended Final did include a ministerial error regarding our calculation of the net U.S. price of SMC's hammer sales. Specifically, in calculating the marine insurance and ocean freight charges, the Department, consistent with our intended methodology, multiplied the surrogate values for these expenses, in dollars per kilogram, by the weight of a hammer in order to convert the surrogate value into a dollars per hammer value. This per-unit cost must be subtracted from the gross unit price to calculate the U.S. price per unit. However, the Department incorrectly used the weight of each hammer being sold in pounds rather than in kilograms. To correct the error, the Department calculated the weight in kilograms per hammer sold and used this weight in our calculation of the marine insurance and ocean freight charges.

Therefore, in accordance with 19 CFR 351.224(e), we are amending the Amended Final to reflect the correction of the ministerial error made in the calculation of net U.S. price for SMC. SMC's revised weighted-average dumping margin is listed in the “Amended Final Results” section, below.

Amended Final Results

We are amending the amended final results of the antidumping duty reviews of HFHTs from the PRC (hammers/sledges) to reflect the correction of the above-cited ministerial error. The revised weighted-average dumping margin is as follows:

Manufacturer/exporter | Time period | Margin (percent)
Shandong Machinery Import & Export Corporation: Hammers/Sledges | 2/1/00-1/31/01 | 0.05 (de minimis)
¹De minimis.

Assessment Rates

The Department will determine, and the Customs Service shall assess, antidumping duties on all appropriate entries. In accordance with 19 CFR 351.212(b)(1), we have calculated importer-specific assessment rates. Where the importer-specific assessment rate is above de minimis, we will instruct the Customs Service to assess antidumping duties on that importer's entries of subject merchandise. Since the entered value of the merchandise was not reported to us, we have divided, where applicable, the total dumping margins (calculated as the difference between NV and EP) for each importer by the total number of units sold to the importer. We will direct Customs to assess the resulting unit dollar amount against each unit of subject merchandise entered by the importer during the POR. The Department will issue appropriate assessment instructions directly to the Customs Service within 15 days of publication of these amended final results of review.

Cash Deposit Requirements

The following deposit requirements will be effective upon publication of this notice of amended final results of administrative reviews for all shipments of HFHTs from the PRC entered, or withdrawn from warehouse, for consumption on or after the date of publication of this notice, as provided by section 751(a)(1) of the Act: (1) The cash deposit rates for the reviewed companies will be the rates shown above except that, for firms whose weighted-average margins are less than 0.5 percent, and therefore, de minimis, the Department shall require a zero deposit of estimated antidumping duties; (2) for previously reviewed or investigated companies with a separate rate not listed above, the cash deposit rate will continue to be the company-specific rate published for the most recent period; (3) for all other PRC exporters, the cash deposit rates will be the PRC-wide rates; (4) for all non-PRC exporters of the subject merchandise, the cash deposit rate will be the rate applicable to the PRC supplier of that exporter. The current PRC-wide cash deposit rates are 18.72 percent for Axes/Adzes, 47.88 percent for Bars/Wedges, 27.71 percent for Hammers/Sledges and 98.77 percent for Picks/Mattocks. These deposit requirements shall remain in effect until publication of the final results of the next administrative reviews.

Notification

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective order (APO) of their responsibility concerning the disposition of proprietary information disclosed under APO in accordance with 19 CFR 351.305. Timely written notification of return/destruction of APO materials or conversion to judicial protective order is hereby requested. Failure to comply with the regulations and the terms of an APO is a sanctionable violation.

These final results of administrative review are issued and published in accordance with sections 751(a)(1) and 777(i)(1) of the Act (19 U.S.C. 1675(a)(1) and 19 U.S.C. 1677f(i)(1)).

Dated: March 21, 2003.
Joseph A. Spetrini,
Assistant Secretary for Import Administration.

[FR Doc. 03-7361 Filed 3-26-03; 8:45 am]

BILLING CODE 3510-DS-P